DEPARTMENT OF ENERGY

Federal Energy Regulatory Commission

Combined Notice of Filings # 1

December 01, 2008.

Take notice that the Commission received the following electric rate filings:

Docket Numbers: ER05-699-007.

Applicants: Xcel Energy Services Inc.

Description: Xcel Energy Services Inc submits Service Agreement 393 between Northern States Power Co et al and City of Sleepy Eye etc.

Filed Date: 11/24/2008.

Accession Number: 20081125-0202.

Comment Date: 5 p.m. Eastern Time on Monday, December 15, 2008.

Docket Numbers: ER05-1195-004.

Applicants: Silverhill LTD.

Description: Silverhill Ltd. submits updated tariff sheet with corrected effective date of 9/18/07 pursuant to FERC 11/20/08 letter order.

Filed Date: 11/26/2008.

Accession Number: 20081128-0105.

Comment Date: 5 p.m. Eastern Time on Wednesday, December 17, 2008.

Docket Numbers: ER06-456-018; ER06-1271-013; ER06-954-014; ER06-880-012; ER07-424-009; EL07-57-005.

Applicants: PJM Interconnection, L.L.C.

Description: PJM Interconnection, LLC submits an amendment to their 11/14/08 filing of revisions to Schedule 12-Appendix of their tariff to incorporate new cost responsibility assignments etc.

Filed Date: 11/25/2008.

Accession Number: 20081201-0096.

Comment Date: 5 p.m. Eastern Time on Tuesday, December 16, 2008.

Docket Numbers: ER06-739-018; ER02-537-020; ER03-983-016; ER06-738-018; ER07-501-016; ER07-758-013; ER08-649-010.

Applicants: East Coast Power Linden Holding, LLC; Shady Hills Power Company, L.L.C.; Fox Energy Company LLC; Cogen Technologies Linden Venture, L.P.; Birchwood Power Partners, L.P.; Inland Empire Energy Center, L.L.C.; EFS Parlin Holdings LLC.

Description: GE Companies Notice of Non-Material Change in Status (Order No. 652).

Filed Date: 11/28/2008.

Accession Number: 20081128-5009.

Comment Date: 5 p.m. Eastern Time on Friday, December 19, 2008.

Docket Numbers: ER08-54-008.

Applicants: ISO New England Inc.

Description: ISO New England Inc et al submits proposed revisions to Section I and II of the ISO Tariff pursuant to FERC 10/27/08 order.

Filed Date: 11/26/2008.

Accession Number: 20081128-0106.

Comment Date: 5 p.m. Eastern Time on Wednesday, December 17, 2008.

Docket Numbers: ER08-110-004.

Applicants: Starwood Power-Midway, LLC.

Description: Starwood Power-Midway, LLC submits Notification of Non-Material Change in Status relating to Starwood's market-based rate authorization.

Filed Date: 11/25/2008.

Accession Number: 20081126-0126.

Comment Date: 5 p.m. Eastern Time on Tuesday, December 16, 2008.

Docket Numbers: ER08-633-002.

Applicants: ISO New England Inc.

Description: ISO New England, Inc.'s Informational Filing with Proration Results.

Filed Date: 11/18/2008.

Accession Number: 20081118-5110.

Comment Date: 5 p.m. Eastern Time on Tuesday, December 9, 2008.

Docket Numbers: ER08-1006-002.

Applicants: Entergy Services, Inc.

Description: Entergy Mississippi, Inc submits an updated Appendix H to the Amended and Restated Interconnection and Operating Agreement between Southaven Power, LLC and EMI.

Filed Date: 11/24/2008.

Accession Number: 20081126-0122.

Comment Date: 5 p.m. Eastern Time on Monday, December 15, 2008.

Docket Numbers: ER08-1317-002.

Applicants: California Independent System Operator C.

Description: California Independent System Operator Corporation submits compliance filing in response to the Commission's 9/26/08 order addressing the CAISO's Generator Interconnection Process Reform.

Filed Date: 11/25/2008.

Accession Number: 20081201-0097.

Comment Date: 5 p.m. Eastern Time on Tuesday, December 16, 2008.

Docket Numbers: ER08-1457-002.

Applicants: PPL Electric Utilities Corporation.

Description: PPL Electric Utilities Corporation submits substitutes tariff sheets for Attachment H-8H to the PJM Interconnection, L.L.C. Open Access Transmission Tariff.

Filed Date: 11/26/2008.

Accession Number: 20081128-0107.

Comment Date: 5 p.m. Eastern Time on Wednesday, December 17, 2008.

Docket Numbers: ER08-1485-001.

Applicants: Midwest Independent System Transmission.

Description: Midwest Independent Transmission System Operator, Inc submits proposed revisions to its Open Access Transmission and Energy Markets Tariff in compliance with the Commission's 10/28/08 order re Foreign Guaranties.

Filed Date: 11/25/2008.

Accession Number: 20081126-0123

Comment Date: 5 p.m. Eastern Time on Tuesday, December 16, 2008.

Docket Numbers: ER08-1486-002.

Applicants: Midwest Independent Transmission System

Description: Midwest Independent Transmission System Operator, Inc submits revisions to its Open Access Transmission and Energy Markets Tariff pursuant with the Commission's directives in the 10/28/08 order.

Filed Date: 11/26/2008.

Accession Number: 20081128-0108.

Comment Date: 5 p.m. Eastern Time on Wednesday, December 17, 2008.

Docket Numbers: ER09-138-001.

Applicants: FPL Energy Oliver Wind I, LLC.

Description: FPL Energy Oliver Wind I, LLC submits amended market-based rate tariff pursuant to Order 697-A, effective date 12/15/08.

Filed Date: 11/26/2008.

Accession Number: 20081128-0109.

Comment Date: 5 p.m. Eastern Time on Wednesday, December 17, 2008.

Docket Numbers: ER09-206-001

Applicants: Pasco Cogen, Ltd.

Description: Pasco Cogen, Ltd submits Substitute Original Sheet 2 and 3 to FERC Electric Tariff, Original Volume 1, effective 1/1/09.

Filed Date: 11/25/2008.

Accession Number: 20081126-0124.

Comment Date: 5 p.m. Eastern Time on Tuesday, December 16, 2008.

Docket Numbers: ER09-319-000.

Applicants: ISO New England Inc.

Description: ISO New England Inc submits transmittal letter and amendments to the ISO Financial Assurance Policy for Market Participants and the ISO Financial Assurance Policy for FTR-Only Customers and DRP-Only Customers etc.

Filed Date: 11/20/2008.

Accession Number: 20081124-0315.

Comment Date: 5 p.m. Eastern Time on Thursday, December 11, 2008.

Docket Numbers: ER09-328-000.

Applicants: TransCanada Energy Sales Ltd.

Description: TransCanada Energy Sales Ltd submits its application for authorization to make wholesale sales of energy and capacity at negotiated, market-based rates.

Filed Date: 11/25/2008.

Accession Number: 20081126-0135.

Comment Date: 5 p.m. Eastern Time on Tuesday, December 16, 2008.

Docket Numbers: ER09-346-000.

Applicants: American Electric Power Service Corporat.

Description: AEP Texas Central Co submits a new and revised sheets to the 1/11/05 Interconnection Agreement with LCRA Transmission Services Corporation etc.

Filed Date: 11/26/2008.

Accession Number: 20081201-0094.

Comment Date: 5 p.m. Eastern Time on Wednesday, December 17, 2008.

Docket Numbers: ER09-349-000.

Applicants: Portland General Electric Company.

Description: Portland General Electric Co submits First Revised Rate Schedule 66, an Intertie Agreement with Bonneville Power Administration which includes certain amendments to PGE's Rate Schedule FERC 66.

Filed Date: 11/26/2008.

Accession Number: 20081201-0095.

Comment Date: 5 p.m. Eastern Time on Wednesday, December 17, 2008.

Take notice that the Commission received the following electric securities filings:

Docket Numbers: ES08-30-001.

Applicants: Entergy Louisiana, LLC.

Description: Request of Entergy Louisiana, LLC, for Modification of Order Issued Under Section 204(a).

Filed Date: 11/28/2008.

Accession Number: 20081128-5025.

Comment Date: 5 p.m. Eastern Time on Monday, December 8, 2008.

Take notice that the Commission received the following open access transmission tariff filings:

Docket Numbers: OA07-83-001.

Applicants: Avista Corporation.

Description: Avista Corporation's Substitute Tariff Sheet for Attachment C to its OATT.

Filed Date: 11/26/2008.

Accession Number: 20081126-5163.

Comment Date: 5 p.m. Eastern Time on Wednesday, December 17, 2008.

Docket Numbers: OA08-23-001; OA08-28-002; OA08-31-002; OA08-40-001; OA08-45-002.

Applicants: Idaho Power Company, Deseret Generation & Transmission Co-op., Portland General Electric Company, NorthWestern Corporation, PacifiCorp.

Description: Errata to Order No. 890 Attachment K Joint Compliance Filing of the Funding Members of the Northern Tier Transmission Group and on 11/18/08 submitted a request that Second Substitute Original Sheet 346U to 346V et al. to FERC Electric Tariff be considered in place of those submitted on 10/29/08, pursuant to Order 890, its Joint Compliance Filing and under OA08-23 et al.

Filed Date: 11/13/08; 11/18/2008.

Accession Number: 20081113-5109; 20081121-0131.

Comment Date: 5 p.m. Eastern Time on Tuesday, December 9, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E8-29339 Filed 12-10-08; 8:45 am]

BILLING CODE 6717-01-P